DEPARTMENT OF EDUCATION

National Board of Education Sciences; Meeting

AGENCY: National Board for Education Sciences; ED.

ACTION: Notice of meeting.

SUMMARY: This notice sets forth the schedule and proposed agenda of a forthcoming meeting of the National Board for Education Sciences. Notice of this meeting is required under Section 10(a)(2) of the Federal Advisory Committee Act. This document is intended to notify the general public of their opportunity to attend the meeting. Individuals who will need accommodations for disability (i.e., interpreting services, assistive listening devices, materials in alternative format) should notify Mary Grace Lucier at (202) 219-2253 by August 26. We will attempt to meet requests after this date, but cannot guarantee availability of the requested accommodation. The meeting site is accessible to individuals with disabilities.

DATES: September 6 and 7, 2005.

Time: September 6, 3 p.m. to 5 p.m.; September 7, 8:30 a.m. to 3:30 p.m.

Location: Room 100, 80 F St., NW, Washington, DC 20208-7564.

FOR FURTHER INFORMATION CONTACT: Mary Grace Lucier, Designated Federal Official, National Board for Education Sciences, Washington, DC 20208. Tel.: (202) 219-2253; fax: (202) 219-1466; e-mail: Mary.Grace.Lucier@ed.gov.

SUPPLEMENTARY INFORMATION: The National Board for Education Sciences is authorized by Section 116 of the Education Sciences Reform Act of 2002. The Board advises the Director of the Institute of Education Sciences (IES) on the establishment of activities to be supported by the Institute, on the funding of applications for grants, contracts, and cooperative agreements for research after the completion of peer review, and reviews evaluates the work of the Institute. On September 6, the Board will meet from 3 to 5 p.m. to hear an update on the work of IES and a presentation of the proposed research priorities for FY 2006 by the Director.

On September 7, at 8:30 a.m. the Board will review the activities of the previous day and the present day's agenda. Starting at 8:45 a.m., the Board will review and discuss public comments on the IES research priorities. From 10:30 to noon the Board will consider its response to the priorities and take action on them. At 1 p.m. the Board will hold a presentation and discussion of a plan to examine the IES technical and peer review system, and at 2:15 p.m. the Board will conduct a retrospective on Board activities for 2005 and planning for 2006. Adjournment is scheduled for 3:30 p.m. Further meetings of the Board are scheduled for January 23 and 24, 2006, and May 8 and 9, 2006.

Records will be kept of all Board proceedings and will be available for public inspection at the office of the National Board for Education Sciences, 555 New Jersey Ave., NW, Washington, DC 20208.

Dated: August 18, 2005.
Grover J. Whitehurst,
Director, Institute of Education Sciences.

[FR Doc. 05-16770 Filed 8-23-05; 8:45 am]

BILLING CODE 4000-01-M